DEPARTMENT OF TRANSPORTATION

Federal Aviation Administration

Second RTCA SC-236 Joint Plenary With EUROCAE WG-96

AGENCY: Federal Aviation Administration (FAA), U.S. Department of Transportation (DOT).

ACTION: Second RTCA SC-236 Joint Plenary with EUROCAE WG-96.

SUMMARY: The FAA is issuing this notice to advise the public of a meeting of Second RTCA SC-236 Joint Plenary with EUROCAE WG-96.

DATES: The meeting will be held December 5-7, 2016, 9:00 a.m.-5:00 p.m.

ADDRESSES: The meeting will be held at: Texas A&M University, College Station, Texas.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Second RTCA SC-236 Joint Plenary with EUROCAE WG-96. The agenda will include the following:

Monday Through Wednesday, December 5-7, 2016, 9:00 a.m.-5:00 p.m.

1. Welcome/Administrative Duties

2. IPR/Membership Call-Out and Introductions

3. Acceptance of Meeting Minutes for the First Joint Plenary of SC-236/WG-96

4. Recap of Sub-working Group Structure and Scope Statements

5. Review of Schedule for Sub-working groups

6. Break-out into Initial Working Groups

7. Reports of the Plans for the Working Groups

8. New Business Discussions

9. Review of Action Items

10. Plan for next meeting

11. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 9, 2016.
Mohannad Dawoud,
Management & Program Analyst, Partnership Contracts Branch, ANG-A17, NextGen, Procurement Services Division, Federal Aviation Administration.

[FR Doc. 2016-27391 Filed 11-14-16; 8:45 am]

BILLING CODE 4910-13-P